DEPARTMENT OF TRANSPORTATION

Federal Aviation Administration

Notice of Intent To Rule on Request To Release Airport Property at the Air Park South Airport (2K2), Ozark, MO

AGENCY: Federal Aviation Administration (FAA), DOT.

ACTION: Notice of Request To Release Airport Property.

SUMMARY: The FAA proposes to rule and invites public comment on the release of land at the Air Park South Airport (2K2) under the provisions of 49 U.S.C. 47107(h)(2).

DATES: Comments must be received on or before October 12, 2010.

ADDRESSES: Comments on this application may be mailed or delivered to the FAA at the following address: Nicoletta S. Oliver, Airports Compliance Specialist, Federal Aviation Administration, Airports Division, ACE-610C, 901 Locust, Kansas City, MO 64106.

In addition, one copy of any comments submitted to the FAA must be mailed or delivered to: Gary A. Cyr, Sr., A.A.E., Director of Aviation, Springfield-Branson National Airport, 5000 West Kearney, Suite 15, Springfield, MO 65803, (417) 869-0300.

FOR FURTHER INFORMATION CONTACT: Nicoletta S. Oliver, Airports Compliance Specialist, Federal Aviation Administration, Airports Division, ACE-6100, 901 Locust, Kansas City, MO 64106, (816) 329-2642, nicoletta.oliver@faa.gov.

The request to release property may be reviewed, by appointment, in person at this same location.

SUPPLEMENTARY INFORMATION: The FAA invites public comment on the request to release approximately 235 acres of property known as the Air Park South Airport (2K2) under the provisions of 49 U.S.C. 47107(h)(2). On September 25, 2007, the Director of Aviation at the Springfield-Branson National Airport notified the FAA that because of the Sponsor's inability to acquire land necessary to safely and effectively operate the airport, he requested full release of the affected property from Federal obligations. On March 16, 2010, the FAA determined that the request to release property at Air Park South Airport (2K2) submitted by the Sponsor meets the procedural requirements of the Federal Aviation Administration. The FAA may approve the request, in whole or in part, no sooner than thirty days after the publication of this Notice.

The following is a brief overview of the request:

Air Park South Airport (2K2) is proposing the release of the entire airport property and associated facilities. The release of land is necessary to comply with Federal Aviation Administration Grant Assurances that do not allow Federally acquired airport property to be used for non-aviation purposes. The sale and permanent abandonment of the subject property will result in the lands of the Air Park South Airport (2K2) being changed from aeronautical to nonaeronautical use and release the lands from the conditions of the AlP Grant Agreement Grant Assurances. In accordance with 49 U.S.C. 47107(c)(2)(B)(i) and (iii), the airport will receive fair market value for the property, which will be subsequently reinvested in another eligible airport improvement project for general aviation facilities at the Springfield-Branson National Airport.

Any person may inspect, by appointment, the request in person at the FAA office listed above under FOR FURTHER INFORMATION CONTACT. In addition, any person may, upon appointment and request, inspect the application, notice and other documents determined by the FAA to be related to the application in person at the Springfield-Branson National Airport.

Issued in Kansas City, MO, on September 1, 2010.
Jim A. Johnson,
Manager, Airports Division.

[FR Doc. 2010-22541 Filed 9-9-10; 8:45 am]

BILLING CODE 4910-13-M